DEPARTMENT OF TRANSPORTATION

Federal Aviation Administration

14 CFR Part 71

[Docket No. FAA-2006-24878; Airspace Docket NO. 06-AWP-4]

RIN 2120-AA66

Revision of Class E Airspace; Mountain Home, ID

AGENCY: Federal Aviation Administration (FAA), DOT.

ACTION: Final rule.

SUMMARY: This action revises Class E airspace at Mountain Home, ID, beginning at 1,200 feet above ground level (AGL), replacing the existing Class G uncontrolled airspace. This airspace action accommodates the terminal environment transition between Salt Lake Air Route Traffic Control Center (ARTCC) and Mountain Home AFB Radar Approach Control (RAPCON) by placing aircraft in controlled airspace during the transfer of aircraft radar identification between the facilities. In addition, a review of the legal description revealed that it does not reflect the correct airport reference point (ARP) of Mountain Home Municipal Airport and geographic position of the Sturgeon Non-Directional Beacon (NDB). The notice of Proposed Rulemaking published in the Federal Register on August 21, 2006, included an incorrect longitude for Mountain Home TACAN. This action corrects those minor discrepancies.

DATES: Effective Date: 0901 UTC, January 18, 2007. The Director of the Federal Register approves this incorporation by reference action under title 1, Code of Federal Regulations, part 51, subject to the annual revision of FAA Order 7400.9 and publication of conforming amendments.

FOR FURTHER INFORMATION CONTACT: Francie Hope, Western Terminal Operations Airspace Specialist, AWP-520.3, Federal Aviation Administration, 15000 Aviation Boulevard, Lawndale, California 90261, telephone (310) 725-6502.

SUPPLEMENTARY INFORMATION:

History

On August 21, 2006, the FAA published in Federal Register a notice of proposed rulemaking to revise the Class E airspace at Mountain Home, ID, replacing Class G uncontrolled airspace with Class E airspace. Interested parties were invited to participate in this rulemaking effort by submitting written comments on this proposal to the FAA. No comments were received. With the exception of an editorial change to the Mountain Home TACAN longitude, this revision is the same as that proposed in the notice.

The Rule

This action amends Title 14 Code of Federal Regulations (14 CFR) part 71 by revising the Class E airspace area with a base altitude of 1,200 feet AGL in the vicinity of Mountain Home AFB, ID. Class E airspace is used to transition to and from the terminal or enroute environment, allowing a buffer for arriving and departing IFR aircraft from uncontrolled airspace. The FAA is taking this action to enhance the safe and efficient use of the navigable airspace in southern Idaho.

The FAA has determined that this regulation only involves an established body of technical regulations for which frequent and routine amendments are necessary to keep them operationally current. Therefore, this regulation : (1) Is not a “significant regulatory action” under Executive Order 12866; (2) is not a “significant rule” under Department of Transportation Regulatory Policies and procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9P, Airspace Designations and Reporting Points, dated September 1, 2006, and effective September 15, 2006, is amended as follows:

Paragraph 6005 Class E airspace areas extending upward from 700 feet or more above the surface of the earth.

* * * * *

ANM ID E5 Mountain Home, ID [Revised]

Mountain Home, AFB, ID

(Lat. 43°02′37″ N., long. 115°52′21″ W.)

Mountain Home TACAN

(Lat. 43°02′26″ N., long. 115°52′29″ W.)

Mountain Home Municipal Airport

(Lat. 43°07′53″ N., long. 115°43′47″ W.)

Sturgeon NDB

(Lat. 43°06′48″ N., long. 115°39′31″ W.)

That airspace extending upward from 700 feet above the surface within 8.7 miles northeast and 7.9 miles southwest of the Mountain Home AFB Tacan 135° and 315° radials extending from 15.7 miles southeast to 15.7 miles northwest of the TACAN, and within a 7.4-mile radius of the Mountain Home Municipal Airport, thence extending east of the radius 3.1 miles each side of the Sturgeon NDB 112° bearing to 7.4 miles east of Sturgeon NDB; that airspace extending upward from 1,200 feet above the surface bounded on the northeast by the southwest edge of V-253; to long. 115°00′11″W; south to lat. 42°24′00″ N; east to lat. 42°24′08″N, long. 115°18′09″ W; thence on southeast, south, and west by a 46.0-mile radius of Mountain Home AFB; on the west by the southeast edge of V-113; northeast to the southwest edge of V-253.

* * * * *

Issued in Los Angeles, California, on October 10, 2006.
Leonard A. Mobley,
Acting Area Director, Western Terminal Operations.

[FR Doc. 06-8850 Filed 10-25-06; 8:45 am]

BILLING CODE 4910-13-M